DEPARTMENT OF TRANSPORTATION

Federal Aviation Administration

14 CFR Part 39

[Docket No. 2000-NM-67-AD; Amendment 39-11618; AD 2000-05-09]

RIN 2120-AA64

Airworthiness Directives; Boeing Model 757-200, -200PF, and -200CB Series Airplanes Powered by Rolls-Royce RB211-535C/E4/E4B Turbofan Engines

AGENCY: Federal Aviation Administration, DOT.

ACTION: Final rule; request for comments.

SUMMARY: This amendment supersedes an existing airworthiness directive (AD), applicable to certain Boeing Model 757-200, -200PF, and -200CB series airplanes, that currently requires repetitive inspections of the engine thrust control cable system to detect discrepancies of the wire rope, fittings, and pulleys; and replacement, if necessary. That AD also requires a one-time inspection to determine the part number of certain pulleys, and replacement of existing pulleys with new pulleys, if necessary; and modification of the engine thrust control cable installation. This new action corrects a certain part number. This AD is prompted by reports of failure of certain engine thrust control cables. The actions specified by this AD are intended to prevent failure of certain engine thrust control cables, which could result in a severe asymmetric thrust condition during landing, and consequent reduced controllability of the airplane.

DATES: Effective March 22, 2000.

The incorporation by reference of certain publications, as listed in the regulations, was approved previously by the Director of the Federal Register as of February 7, 2000 (65 FR 1, January 3, 2000).

Comments for inclusion in the Rules Docket must be received on or before May 8, 2000.

ADDRESSES: Submit comments in triplicate to the Federal Aviation Administration (FAA), Transport Airplane Directorate, ANM-114, Attention: Rules Docket No. 2000-NM-67-AD, 1601 Lind Avenue, SW., Renton, Washington 98055-4056.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Kathrine Rask, Aerospace Engineer, Propulsion Branch, ANM-140S, FAA, Transport Airplane Directorate, Seattle Aircraft Certification Office, 1601 Lind Avenue, SW., Renton, Washington 98055-4056; telephone (425) 227-1547; fax (425) 227-1181.

SUPPLEMENTARY INFORMATION: On December 22, 1999, the FAA issued AD 99-27-06, amendment 39-11487 (65 FR 1, January 3, 2000), applicable to certain Boeing Model 757-200, -200PF, and -200CB series airplanes, to require repetitive inspections of the engine thrust control cable system to detect discrepancies of the wire rope, fittings, and pulleys; and replacement, if necessary. That AD also requires a one-time inspection to determine the part number of certain pulleys and replacement of existing pulleys with new pulleys, if necessary; and modification of the engine thrust control cable installation. That action was prompted by reports of failure of certain engine thrust control cables. The actions required by that AD are intended to prevent failure of certain engine thrust control cables, which could result in a severe asymmetric thrust condition during landing, and consequent reduced controllability of the airplane.

Actions Since Issuance of Previous Rule

Since the issuance of that AD, the FAA has determined that a typographical error in paragraph (b) of AD 99-27-06 identified part number (P/N) BAC30M4 as a part number for the thrust control cable pulleys. However, as referenced in the preamble of the final rule, BACP30M4 is the correct P/N for the pulleys, as P/N BAC30M4 does not exist. In all other respects, the original document is correct.

Explanation of Requirements of Rule

Since an unsafe condition has been identified that is likely to exist or develop on other airplanes of this same type design, this AD supersedes AD 99-27-06 to continue to require repetitive inspections of the engine thrust control cable system to detect discrepancies of the wire rope, fittings, and pulleys; and replacement, if necessary. This AD also continues to require a one-time inspection to determine the part number of certain pulleys, and replacement of existing pulleys with new pulleys, if necessary; and modification of the engine thrust control cable installation.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-67-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11487 (65 FR 1, January 3, 2000) and by adding a new airworthiness directive (AD), amendment 39-11618, to read as follows:

2000-05-09 Boeing: Amendment 39-11618. Docket 2000-NM-67-AD. Supersedes AD 99-27-06, Amendment 39-11487.

Applicability: Model 757-200, -200PF, and -200CB series airplanes powered by Rolls-Royce RB211-535C/E4/E4B turbofan engines, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent engine thrust control cable failure, which could result in a severe asymmetric thrust condition during landing, and consequent reduced controllability of the airplane, accomplish the following:

Inspections and Corrective Actions

(a) Within 24 months or 6,000 flight hours after February 7, 2000 (the effective date of AD 99-27-06, amendment 39-11487), whichever occurs first: Accomplish the “Thrust Control Cable Inspection Procedure” specified in Appendix 1. (including Figure 1) of this AD to verify the integrity of the thrust control cables. Prior to further flight, repair any discrepancy found in accordance with the procedures described in the Boeing 757 Maintenance Manual. Repeat the inspection thereafter at intervals not to exceed 24 months or 6,000 flight hours, whichever occurs first.

(b) For airplanes having line numbers 1 through 636 inclusive: Within 24 months or 6,000 flight hours after February 7, 2000, whichever occurs first, perform a one-time inspection of the 8 engine thrust control cable pulleys in the struts (4 in each strut) to determine the part number (P/N) of each pulley. If any pulley having P/N 65B80977-1 or BACP30M4 is installed, prior to further flight, replace it with a pulley having P/N 255T1232-7, in accordance with the procedures described in the Boeing 757 Airplane Maintenance Manual.

Note 2: The location of the pulleys to be inspected in accordance with paragraph (b) of this AD is specified in Chapters 53-11-53-04, 76-11-52-01, and 76-11-52-02 of the Boeing 757 Illustrated Parts Catalog.

Modifications

(c) For airplanes identified in Boeing Service Bulletin 757-76-1, dated May 18, 1984: Within 24 months or 6,000 flight hours after February 7, 2000, whichever occurs first, remove the guide bracket of the engine thrust control cable located on the front spar of the right wing, in accordance with the service bulletin.

(d) For airplanes identified in Boeing Service Bulletin 757-76-0005, dated May 5, 1988: Within 24 months or 6,000 flight hours after February 7, 2000, whichever occurs first, remove the engine thrust control cable breakaway stop assemblies, and replace sections of the engine thrust control cables with smaller diameter cables in accordance with the service bulletin.

(e) For airplanes identified in Boeing Service Bulletin 757-30A0018, Revision 2, dated September 9, 1999: Within 60 days after February 7, 2000, install a support bracket assembly between the window heat wire bundle and the engine thrust control cable; and adjust the wire bundle clearance, as necessary, to parallel the minimum clearance specified in Boeing Alert Service Bulletin 757-30A0018, Revision 1, dated September 17, 1998; or Boeing Service Bulletin 757-30A0018, Revision 2, dated September 9, 1999.

Alternative Method of Compliance

(f) An alternative method of compliance or adjustment of the compliance time that provides an acceptable level of safety may be used if approved by the Manager, Seattle Aircraft Certification Office (ACO), FAA, Transport Airplane Directorate. Operators shall submit their requests through an appropriate FAA Principal Maintenance Inspector, who may add comments and then send it to the Manager, Seattle ACO.

Note 3: Information concerning the existence of approved alternative methods of compliance with this AD, if any, may be obtained from the Seattle ACO.

Special Flight Permits

(g) Special flight permits may be issued in accordance with sections 21.197 and 21.199 of the Federal Aviation Regulations (14 CFR 21.197 and 21.199) to operate the airplane to a location where the requirements of this AD can be accomplished.

Incorporation by Reference

(h) Except as provided by paragraphs (a) and (b) of this AD, the modifications shall be done in accordance with Boeing Service Bulletin 757-76-1, dated May 18, 1984; Boeing Service Bulletin 757-76-0005, dated May 5, 1988; Boeing Alert Service Bulletin 757-30A0018, Revision 1, dated September 17, 1998; and Boeing Service Bulletin 757-30A0018, Revision 2, dated September 9, 1999. This incorporation by reference was approved previously by the Director of the Federal Register as of February 7, 2000 (65 FR 1, January 3, 2000). Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

(i) This amendment becomes effective on March 22, 2000.

Appendix 1.

Thrust Control Cable Inspection Procedure

1. General

A. Clean the cables, if necessary, for the inspection, in accordance with Boeing 757 Maintenance Manual 12-21-31.

B. Use these procedures to verify the integrity of the thrust control cable system. The procedures must be performed along the entire cable run for each engine. To ensure verification of the portions of the cables which are in contact with pulleys and quadrants, the thrust control must be moved by operation of the thrust and/or the reverse thrust levers to expose those portions of the cables.

C. The first task is an inspection of the control cable wire rope. The second task is an inspection of the control cable fittings. The third task is an inspection of the pulleys.

Note: These three tasks may be performed concurrently at one location of the cable system on the airplane, if desired, for convenience.

2. Inspection of the Control Cable Wire Rope

A. Perform a detailed visual inspection to ensure that the cable does not contact parts other than pulleys, quadrants, cable seals, or grommets installed to control the cable routing. Look for evidence of contact with other parts. Correct the condition if evidence of contact is found.

Note: For the purposes of this procedure, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

B. Perform a detailed visual inspection of the cable runs to detect incorrect routing, kinks in the wire rope, or other damage. Replace the cable assembly if:

(1) One cable strand had worn wires where one wire cross section is decreased by more than 40 percent (see Figure 1),

(2) A kink is found, or

(3) Corrosion is found.

C. Perform a detailed visual inspection of the cable: To check for broken wires, rub a cloth along the length of the cable. The cloth catches on broken wires.

(1) Replace the 7x7 cable assembly if there are two or more broken wires in 12 continuous inches of cable or there are three or more broken wires anywhere in the total cable assembly.

(2) Replace the 7x19 cable assembly if there are four or more broken wires in 12 continuous inches of cable or there are six or more broken wires anywhere in the total cable assembly.

3. Inspection of the Control Cable Fittings

A. Perform a detailed visual inspection to ensure that the means of locking the joints are intact (wire locking, cotter pins, turnbuckle clips, etc.). Install any missing parts.

B. Perform a detailed visual inspection of the swaged portions of swaged end fittings to detect surface cracks or corrosion. Replace the cable assembly if cracks or corrosion are found.

C. Perform a detailed visual inspection of the unswaged portion of the end fitting. Replace the cable assembly if a crack is visible, if corrosion is present, or if the end fitting is bent more than 2 degrees.

D. Perform a detailed visual inspection of the turnbuckle. Replace the turnbuckle if a crack is visible or if corrosion is present.

4. Inspection of Pulleys

A. Perform a detailed visual inspection to ensure that pulleys are free to rotate. Replace pulleys which are not free to rotate.

BILLING CODE 4910-13-U

Issued in Renton, Washington, on March 1, 2000.
Donald L. Riggin,
Acting Manager, Transport Airplane Directorate, Aircraft Certification Service.

[FR Doc. 00-5459 Filed 3-6-00; 8:45 am]

BILLING CODE 4910-13-C